DEPARTMENT OF ENERGY

National Energy Technology Laboratory; Notice of Cancellation of a Financial Assistance Solicitation

AGENCY: National Energy Technology Laboratory, Department of Energy (DOE).

ACTION: Notice of cancellation of a financial assistance solicitation.

SUMMARY: Notice is hereby given of the cancellation of Financial Assistance Solicitation No. DE-PS26-03NT41716 entitled “Gasification Technologies Fundamental Research” which was published in the Federal Register on December 02, 2002 (67 FR 71544).

FOR FURTHER INFORMATION CONTACT: Keith L. Carrington, MS I07, U.S. Department of Energy, National Energy Technology Laboratory, 3610 Collins Ferry Road, P.O. Box 880, Morgantown, WV 26507-0880, E-mail Address: keith.carrington@netl.doe.gov, Telephone Number: (304) 285-4456.

Issued in Pittsburgh, Pennsylvania, on December 19, 2002.
Dale A. Siciliano,
Director, Acquisition and Assistance Division.

[FR Doc. 03-383 Filed 1-8-03; 8:45 am]

BILLING CODE 6450-01-P